DEPARTMENT OF HEALTH AND HUMAN SERVICES

42 CFR Part 100

RIN 0907-AA

National Vaccine Injury Compensation Program: Revisions to the Vaccine Injury Table

AGENCY: Health Resources and Services Administration (HRSA), HHS.

ACTION: Proposed rule; notice of public hearing.

SUMMARY: This document announces a public hearing to receive information and views on the Notice of Proposed Rulemaking (NPRM) entitled “National Vaccine Injury Compensation Program: Revisions to the Vaccine Injury Table.”

Date and Time: The public hearing will be held on March 4, 2011, from 11:30 a.m. to 1 p.m.

Place: The public hearing will be held in Conference Room G in the Parklawn Building, 5600 Fishers Lane, Rockville, Maryland 20857.

FOR FURTHER INFORMATION CONTACT: Dr. Geoffrey Evans, Director, Division of Vaccine Injury Compensation, at 301-443-6593 or by e-mail at gevans@hrsa.gov.

SUPPLEMENTARY INFORMATION: The National Childhood Vaccine Injury Act of 1986, Title III of Public Law 99-660, as amended (42 U.S.C. 300aa-10 et seq.), established the National Vaccine Injury Compensation Program (VICP) for persons found to be injured by vaccines. The Secretary has taken the necessary initial steps to transfer four vaccines covered under the VICP from the provisional category in the Vaccine Injury Table to their own separate categories, with no associated injuries.

These proposed changes would not change the rights of any current or potential VICP petitioners.

The NPRM was published in the Federal Register, September 13, 2010: 75 FR 55503. The public comment period closes March 14, 2011.

A public hearing will be held during the 180-day public comment period. This hearing is to provide an open forum for the presentation of information and views concerning all aspects of the NPRM by interested persons.

In preparing a final regulation, the Secretary will consider the administrative record of this hearing along with all other written comments received during the comment period specified in the NPRM. Individuals or representatives of interested organizations are invited to participate in the public hearing in accord with the schedule and procedures set forth below.

The hearing will be held on March 4, 2011, beginning at 11:30 a.m. in Conference Room G in the Parklawn Building, 5600 Fishers Lane, Rockville, Maryland 20857. Upon entering the Parklawn Building, persons who wish to attend the hearing will be required to call Mr. Mario Lombre at (301) 443-3196 to be escorted to Conference Room G.

The presiding officer representing the Secretary, HHS will be Dr. Geoffrey Evans, Director, Division of Vaccine Injury Compensation, Healthcare Systems Bureau (HSB), Health Resources and Services Administration.

Persons who wish to participate are requested to file a notice of participation with the Department of Health and Human Services (HHS) on or before March 1, 2011. The notice should be mailed to the Division of Vaccine Injury Compensation, HSB, Room 11C-26, Parklawn Building, 5600 Fishers Lane, Rockville, Maryland 20857. To ensure timely handling any outer envelope should be clearly marked “NPRM Hearing.” The notice of participation should contain the interested person's name, address, e-mail address, telephone number, any business or organizational affiliation of the person desiring to make a presentation, a brief summary of the presentation, and the approximate time requested for the presentation. Groups that have similar interests should consolidate their comments as part of one presentation. Time available for the hearing will be allocated among the persons who properly file notices of participation. If time permits, interested parties attending the hearing who did not submit notice of participation in advance will be allowed to make an oral presentation at the conclusion of the hearing.

Persons who find that there is insufficient time to submit the required information in writing may give oral notice of participation by calling Dr. Geoffrey Evans, Director, Division of Vaccine Injury Compensation, at (301) 443-6593 no later than March 1, 2011. Those persons who give oral notice of participation should also submit written notice containing the information described above to HHS by the close of business March 2, 2011.

After reviewing the notices of participation and accompanying information, HHS will schedule each appearance and notify each participant by mail, e-mail or telephone of the time allotted to the person(s) and the approximate time the person's oral presentation is scheduled to begin.

Written comments and transcripts of the hearing will be made available for public inspection as soon as they have been prepared, on weekdays (Federal holidays excepted) between the hours of 8:30 a.m. and 5 p.m. at the Division of Vaccine Injury Compensation Program, Room 11C-26, Parklawn Building, 5600 Fishers Lane, Rockville, Maryland 20857.

Dated: February 10, 2011.
Mary K. Wakefield,
Administrator.

[FR Doc. 2011-3523 Filed 2-15-11; 8:45 am]

BILLING CODE 4165-15-P